DEPARTMENT OF AGRICULTURE

Forest Service

Deschutes Provincial Advisory Committee (DPAC)

AGENCY: Forest Service, USDA.

ACTION: Notice of Meeting.

SUMMARY: The Deschutes Provincial Advisory Committee will meet for a field trip on September 15, 2006 starting at 8 a.m. at the Ochoco National Forest Headquarters, 3160 NE. 3rd Street, Prineville, Oregon. Topics for discussion include a PAC business meeting at the office until 10:30 a.m. The field trip will be from 10:30 a.m. until 5 p.m. and will visit the Maxwell Fire to discuss Area Emergency Rehabilitation and potential opportunities for the fire salvage activities. Also, if time allows, members will visit McKay Creek to discuss motorized access, dispersed camping, and riparian resources. A Public Forum will be available from 12:30 p.m. till 13:00 p.m. All Deschutes Province Advisory Committee Meetings are open to the public.

FOR FURTHER INFORMATION CONTACT: Chris Mickle, Province Liaison, Deschutes NF, Crescent RD, P.O. Box 208, Crescent, OR 97754, phone (541) 433-3216.

Cecilia R. Seesholtz,
Deputy Forest Supervisor.

[FR Doc. 06-7401 Filed 9-1-06; 8:45am]

BILLING CODE 3410-11-M